DEPARTMENT OF ENERGY

Federal Energy Regulatory Commission

Combined Notice of Filings #1

Take notice that the Commission received the following exempt wholesale generator filings:

Docket Numbers: EG22-159-000.

Applicants: Ector County Generation, LLC.

Description: Ector County Generation, LLC submits Notice of Self-Certification of Exempt Wholesale Generator Status.

Filed Date: 7/8/22.

Accession Number: 20220708-5098.

Comment Date: 5 p.m. ET 7/29/22.

Docket Numbers: EG22-160-000.

Applicants: SR Bell Buckle, LLC.

Description: SR Bell Buckle, LLC submits Notice of Self-Certification of Exempt Wholesale Generator Status.

Filed Date: 7/8/22.

Accession Number: 20220708-5160.

Comment Date: 5 p.m. ET 7/29/22.

Docket Numbers: EG22-161-000.

Applicants: SR Cedar Springs, LLC.

Description: SR Cedar Springs, LLC submits Notice of Self-Certification of Exempt Wholesale Generator Status.

Filed Date: 7/8/22.

Accession Number: 20220708-5161.

Comment Date: 5 p.m. ET 7/29/22.

Take notice that the Commission received the following Complaints and Compliance filings in EL Dockets:

Docket Numbers: EL22-74-000.

Applicants: Ameresco, Inc.

Description: Petition for Declaratory Order of Ameresco, Inc.

Filed Date: 7/5/22.

Accession Number: 20220705-5199.

Comment Date: 5 p.m. ET 8/4/22.

Take notice that the Commission received the following electric rate filings:

Docket Numbers: ER10-2265-020; ER10-2354-011; ER11-1846-011; ER11-1847-011; ER11-1850-011; ER11-2062-028; ER11-2175-006; ER11-2176-005; ER11-2598-014; ER11-3188-006; ER11-3418-008; ER11-4307-029; ER11-4308-029; ER12-224-007; ER12-225-007; ER12-261-028; ER12-2301-006; ER13-1192-008; ER13-2020-013; ER13-2050-013; ER13-2107-013; ER17-764-006; ER17-765-006; ER17-767-006; ER21-2826-001.

Applicants: NRG Curtailment Solutions, Inc., Stream Energy Delaware, LLC, Stream Energy Illinois, LLC, Stream Ohio Gas & Electric, LLC, Solar Partners I, LLC, Solar Partners VIII, LLC, Solar Partners II, LLC, Direct Energy Business Marketing, LLC, Stream Energy New York, LLC, Independence Energy Group LLC, Stream Energy New Jersey, LLC, Stream Energy Columbia, LLC, Reliant Energy Northeast LLC, Green Mountain Energy Company, Xoom Energy, LLC, Stream Energy Maryland, LLC, Gateway Energy Services Corporation, Stream Energy Pennsylvania, LLC, SGE Energy Sourcing, LLC, Energy Plus Holdings LLC, Direct Energy Business, LLC, Direct Energy Marketing Inc., Direct Energy Services, LLC, Midway-Sunset Cogeneration Company, NRG Power Marketing LLC.

Description: Triennial Market Power Analysis for Southwest Region of NRG Power Marketing LLC, et al.

Filed Date: 6/30/22.

Accession Number: 20220630-5373.

Comment Date: 5 p.m. ET 8/29/22.

Docket Numbers: ER10-2590-009; ER20-2414-003; ER20-2415-003; ER10-2593-009; ER19-158-010; ER19-2803-007; ER19-2806-007; ER15-1596-015; ER14-1569-015; ER15-1599-015; ER10-2616-022; ER11-4400-019; ER19-2807-007; ER10-2421-008; ER12-1769-010; ER12-2250-009; ER19-102-008; ER11-2457-008; ER12-75-011; ER12-2253-009; ER12-2251-009; ER12-2252-010; ER14-2245-009; ER19-2811-007; ER19-2809-007; ER19-2810-007.

Applicants: Viridian Energy PA, LLC, Viridian Energy NY, LLC, Viridian Energy, LLC, TriEagle Energy, LP, Public Power (PA), LLC, Public Power & Utility of NY, Inc, Public Power & Utility of Maryland, LLC, Public Power, LLC, Massachusetts Gas & Electric, Inc., Luminant Energy Company LLC, Everyday Energy NJ, LLC, Everyday Energy, LLC, Energy Services Providers, Inc., Energy Rewards, LLC, Dynegy Power Marketing, LLC, Dynegy Marketing and Trade, LLC, Dynegy Energy Services (East), LLC, Dynegy Energy Services, LLC, Luminant Commercial Asset Management, LLC, Connecticut Gas & Electric, Inc., Cincinnati Bell Energy LLC, Ambit Northeast, LLC, Oakland Power Company LLC, Moss Landing Energy Storage 2, LLC, Moss Landing Energy Storage 1, LLC, Dynegy Moss Landing, LLC.

Description: Triennial Market Power Analysis for the Southwest Region of Moss Landing Power Company LLC, et al.

Filed Date: 6/30/22.

Accession Number: 20220630-5374.

Comment Date: 5 p.m. ET 8/29/22.

Docket Numbers: ER15-1582-018; ER15-1579-017; ER15-1914-019; ER22-414-002; ER16-1255-016; ER16-2201-012; ER16-1955-013; ER19-846-007; ER21-2156-001; ER18-1667-007; ER20-2065-002; ER20-2066-002; ER17-1864-011; ER17-1871-011; ER17-1909-011; ER17-544-012; ER17-306-012; ER16-1738-013; ER16-474-014; ER21-2766-001; ER21-2289-001; ER20-2519-001; ER16-1901-013; ER16-468-013; ER18-2492-007; ER20-1593-003; ER20-1594-003; ER16-1609-009; ER22-799-002; ER15-2679-015; ER21-1488-002; ER16-2578-013; ER16-2541-012; ER20-1596-003; ER20-1597-003; ER19-2527-002; ER20-1599-003; ER18-2327-005; ER15-2680-015; ER19-847-007; ER15-762-019; ER20-902-001; ER16-2224-012; ER16-890-014; ER15-760-018; ER16-1973-013; ER16-1956-013.

Applicants: Western Antelope Dry Ranch LLC, Western Antelope Blue Sky Ranch B LLC, Western Antelope Blue Sky Ranch A LLC, Summer Solar LLC, Solverde 1, LLC, sPower Energy Marketing, LLC, San Pablo Raceway, LLC, Sandstone Solar LLC, Riverhead Solar Farm, LLC, Richmond Spider Solar, LLC, Prevailing Wind Park, LLC, Pleinmont Solar 2, LLC, Pleinmont Solar 1, LLC, Pioneer Wind Park I, LLC, North Lancaster Ranch LLC, Luna Storage, LLC, Latigo Wind Park, LLC, Lancaster Area Battery Storage, LLC, ID SOLAR 1, LLC, Highlander IA, LLC, Highlander Solar Energy Station 1, LLC, FTS Master Tenant 2, LLC, FTS Master Tenant 1, LLC, Elevation Solar C LLC, East Line Solar, LLC, Clover Creek Solar, LLC, Central Line Solar, LLC, Central Antelope Dry Ranch C LLC, Beacon Solar 4, LLC, Beacon Solar 3, LLC, Beacon Solar 1, LLC, Bayshore Solar C, LLC, Bayshore Solar B, LLC, Bayshore Solar A, LLC, Antelope Expansion 3B, LLC, Antelope Expansion 3A, LLC, Antelope Expansion 2, LLC, Antelope Expansion 1B, LLC, Antelope DSR 3, LLC, Antelope DSR 2, LLC, Antelope DSR 1, LLC, Antelope Big Sky Ranch LLC, AES Marketing and Trading, LLC, 87RL 8me LLC, 67RK 8me LLC, 65HK 8me LLC.

Description: Triennial Market Power Analysis for the Southwest Region of 65HK 8me LLC, et al.

Filed Date: 7/1/22.

Accession Number: 20220701-5476.

Comment Date: 5 p.m. ET 8/30/22.

Docket Numbers: ER17-350-001.

Applicants: ITC Lake Erie Connector, LLC.

Description: ITC Lake Erie Connector LLC's Open Solicitation Compliance Filing as required by FERC's January 13, 2017 Order.

Filed Date: 7/1/22.

Accession Number: 20220701-5472.

Comment Date: 5 p.m. ET 7/22/22.

Docket Numbers: ER21-59-000.

Applicants: Brookfield Renewable Trading and Marketing LP.

Description: Refund Report: Refund Report to be effective N/A.

Filed Date: 7/8/22.

Accession Number: 20220708-5097.

Comment Date: 5 p.m. ET 7/29/22.

Docket Numbers: ER21-384-002.

Applicants: Upper Missouri G. & T. Electric Cooperative, Inc.

Description: Compliance filing: Compliance Filing—Partial Settlement to be effective 1/12/2021.

Filed Date: 7/8/22.

Accession Number: 20220708-5016.

Comment Date: 5 p.m. ET 7/29/22.

Docket Numbers: ER21-385-002.

Applicants: Upper Missouri G. & T. Electric Cooperative, Inc.

Description: Compliance filing: Compliance Filing—Partial Settlement to be effective 1/12/2021.

Filed Date: 7/8/22.

Accession Number: 20220708-5015.

Comment Date: 5 p.m. ET 7/29/22.

Docket Numbers: ER22-2007-001.

Applicants: Duke Energy Florida, LLC, Duke Energy Progress, LLC, Duke Energy Carolinas, LLC.

Description: Tariff Amendment: Duke Energy Carolinas, LLC submits tariff filing per 35.17(b): Response to Deficiency Letter—Gen Replacement to be effective 8/1/2022.

Filed Date: 7/8/22.

Accession Number: 20220708-5118.

Comment Date: 5 p.m. ET 7/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2022.
Debbie-Anne A. Reese,
Deputy Secretary.

[FR Doc. 2022-15060 Filed 7-13-22; 8:45 am]

BILLING CODE 6717-01-P